DEPARTMENT OF LABOR

Employment and Training Administration

[TA-W-71,859, TA-W-71,859A]

Faribault Woolen Mill Company, Faribault, MN; Faribo Woolens, Inc., a Related Company of Faribault Woolen Mill Company, Faribault, MN; Amended Certification Regarding Eligibility To Apply for Worker Adjustment Assistance

In accordance with Section 223 of the Trade Act of 1974, as amended (“Act”), 19 U.S.C. 2273, the Department of Labor issued a Certification of Eligibility to Apply for Worker Adjustment Assistance on December 9, 2009, applicable to workers of Faribault Woolen Mill Company, Faribault, Minnesota. The notice was published in the Federal Register on January 25, 2010 (75 FR 3930).

At the request of the State agency, the Department reviewed the certification for workers of the subject firm. The workers are engaged in the production of wool and wool blend blankets.

New findings show that worker separations occurred during the relevant time period at Faribo Woolens, Inc., a Related Company of Faribault Woolen Mill Company, a retail outlet store for the subject firm, Faribault Woolen Mill Company.

Accordingly, the Department is amending the certification to include workers of the Faribo Woolens, Inc., A Related Company of Faribault Woolen Mill Company, Faribault, Minnesota.

The intent of the Department's certification is to include all workers of the subject firm who were adversely affected by increased imports of wool and wool blend blankets.

The amended notice applicable to TA-W-71,859 is hereby issued as follows:

All workers of Faribault Woolen Mill Company, Faribault, Minnesota (TA-W-71,859) and Faribo Woolens, Inc., A Related Company of Farbault Woolen Mills Company, Faribault, Minnesota (TA-W-71,859A), who became totally or partially separated from employment on or after July 29, 2008, through December 9, 2011, and all workers in the group threatened with total or partial separation from employment on date of certification through two years from the date of certification, are eligible to apply for adjustment assistance under Chapter 2 of Title II of the Trade Act of 1974, as amended.

Signed in Washington, DC, this 3rd day of March, 2011.
Michael W. Jaffe,
Certifying Officer, Office of Trade Adjustment Assistance.

[FR Doc. 2011-12779 Filed 5-24-11; 8:45 am]

BILLING CODE 4510-FN-P